ENVIRONMENTAL PROTECTION AGENCY

[FRL-7568-2]

National Advisory Council for Environmental Policy and Technology (NACEPT) Superfund Subcommittee Meeting

AGENCY: Environmental Protection Agency (EPA).

ACTION: Notification of public advisory NACEPT subcommittee on Superfund; open meeting.

SUMMARY: Pursuant to the Federal Advisory Committee Act, Public Law 92-463, notice is hereby given that the Superfund Subcommittee, a subcommittee of the National Advisory Council for Environmental Policy and Technology (NACEPT), will meet on the dates and times described below. The meeting is open to the public. Seating will be on a first-come basis, and limited time will be provided for public comment on each day.

DATES: The meeting will be held from 8:30 a.m. to 6 p.m. on November 5, 2003; from 8 a.m. to 6 p.m. on November 6, 2003; and 8 a.m. to 1 p.m. on November 7, 2003.

ADDRESSES: The meeting will take place at the Four Points Sheraton Hotel, 1201 K Street, Washington, DC.

FOR FURTHER INFORMATION CONTACT: Angelo Carasea, Designated Federal Officer for the NACEPT Superfund Subcommittee, Office of Superfund Remediation and Technology Innovation, Office of Solid Waste and Emergency Response, MC 5204G, 1200 Pennsylvania Ave., NW., Washington, DC, (703) 603-8828.

SUPPLEMENTARY INFORMATION:

Agenda

This seventh meeting of the NACEPT Superfund Subcommittee will involve discussion of the latest version of the Subcommittee's draft report. The agenda for the meeting will be available one week prior to the meeting's occurrence.

Public Attendance

The public is welcome to attend all portions of the meeting. Members of the public who plan to file written statements and/or make brief (suggested 5-minute limit) oral statements at the public sessions are encouraged to contact the Designated Federal Official. Each day will have one public comment period.

Dated: September 29, 2003.
Angelo Carasea,
Designated Federal Officer, NACEPT Superfund Subcommittee.

[FR Doc. 03-25135 Filed 10-2-03; 8:45 am]

BILLING CODE 6560-50-P